DEPARTMENT OF JUSTICE

Antitrust Division

Notice Pursuant to the National Cooperative Research and Production Act of 1993—SWRI Biodiesel Fuel/Water Separation Cooperative R&D Program

Notice is hereby given that, on December 6, 2005, pursuant to section 6(a) of the National Cooperative Research and Production Act of 1993, 15 U.S.C. 4301 et seq. (“the Act”), SwRI Biodesel Fuel/Water Separation Cooperative R&D Program (“SwRI”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Champion Laboratories, Albion, IL; Donaldson Company, Inc., Minneapolis, MN; Fleetguard, Inc., Cookeville, TN; Lydall Filtration/Separation Inc., Rochester, NH; and RACOR, Modesto, CA. In addition, SwRI wishes to disclose that the Department of Energy is providing financial assistance to the research project through its award of Contract No. SP0600-05-D-5502; Delivery Order No. 0003.

The general area of SwRI's planned activity will be to evaluate the filtration performance of fuel filters composed of water repellent cellulose media, water repellant synthetic media, and water coalescer. The biodiesel diesel fuels used for this study will be produced from methyl soyate, yellow grease, and repeseed. Each test filter will be evaluated using the SAE J1488 emulsified test method at 0, 5, 12.5, and 20% biodiesel fuel concentrations in ultra low sulfur diesel fuel. A Design of Experiment will be generated to ensure randomized testing.

Membership in this group research project remains open, and the participants intend to file additional written notification disclosing all changes in membership or planned activities.

Dorothy B. Fountain,
Deputy Director of Operations, Antitrust Division.

[FR Doc. 05-24330 Filed 12-21-05; 8:45 am]

BILLING CODE 4410-11-M